NUCLEAR REGULATORY COMMISSION

[NRC-2010-0257]

Withdrawal of Regulatory Guide 5.17

AGENCY: Nuclear Regulatory Commission.

ACTION: Withdrawal of Regulatory Guide 5.17, “Truck Identification Markings”.

FOR FURTHER INFORMATION CONTACT: Robert G. Carpenter, Regulatory Guide Development Branch, Division of Engineering, Office of Nuclear Regulatory Research, U.S. Nuclear Regulatory Commission, Washington, DC 20555-0001, telephone: 301-251-7483 or e-mail Robert.Carpenter@nrc.gov.

SUPPLEMENTARY INFORMATION:

I. Introduction

The U.S. Nuclear Regulatory Commission (NRC) is withdrawing Regulatory Guide 5.17, “Truck Identification Markings,”published in January 1974. Regulatory Guide 5.17 identifies methods acceptable to the NRC staff for complying with the former NRC regulation, 10 CFR 73.31(e) (1973), “Shipment By Road,”with regard to markings applied to a road vehicle to enhance its identification from the air.

Specifically, former § 73.31(e) required that vehicles used to transport quantities of special nuclear material by road be marked on top with identifying letters or numbers which will permit identification of the vehicles under daylight conditions from the air in clear weather at 1,000 feet above ground level. Regulatory Guide 5.17 is no longer needed because the guidance is outdated. Former § 73.31(e) has been deleted (44 FR 68184; November 28, 1979) and the information is now contained in the Department of Transportation (DOT) regulations 49 CFR parts 172 through 180. These DOT regulations specify the shape, color, material, markings, and display locations for all types of hazardous material placards, including radioactive materials. The regulation is prescriptive by nature and these DOT regulations are routinely updated; therefore, reproducing the requirements in a regulatory guide is unnecessarily redundant and could lead to frequently outdated guidance.

II. Further Information

The withdrawal of Regulatory Guide 5.17 does not alter any prior or existing licensing commitments based on its use. The guidance provided in this regulatory guide is no longer necessary. Regulatory guides may be withdrawn when their guidance is superseded by congressional action or otherwise no longer provides useful information.

Regulatory guides are available for inspection or downloading through the NRC's public Web site under “Regulatory Guides”in the NRC's Electronic Reading Room at http://www.nrc.gov/reading-rm/doc-collections. Regulatory guides are also available for inspection at the NRC's Public Document Room (PDR), Room O-1 F21, One White Flint North, 11555 Rockville Pike, Rockville, Maryland 20852-2738. The PDR's mailing address is US NRC PDR, Washington, DC 20555-0001. You can reach the staff by telephone at 301-415-4737 or 800-397-4209, by fax at 301-415-3548, and by e-mail to pdr.resource@nrc.gov.

Regulatory guides are not copyrighted, and NRC approval is not required to reproduce them.

Dated at Rockville, Maryland, this 15th day of July 2010.
For the Nuclear Regulatory Commission.
Andrea D. Valentin,
Chief, Regulatory Guide Development Branch, Division of Engineering, Office of Nuclear Regulatory Research.

[FR Doc. 2010-18077 Filed 7-22-10; 8:45 am]

BILLING CODE 7590-01-P